DEPARTMENT OF HEALTH AND HUMAN SERVICES

Administration for Children and Families

Submission for OMB Review; ORR-6 Performance Report (OMB #0970-0036)

AGENCY: Office of Refugee Resettlement, Administration for Children and Families, HHS.

ACTION: Request for public comment.

SUMMARY: The Administration for Children and Families (ACF), Office of Refugee Resettlement (ORR) is requesting an extension of the ORR-6 Performance Report (OMB #0970-0036, expiration 2/28/2022) until 8/31/2022. ORR published a notice in the Federal Register on 8/12/2021 requesting comments within 60-days on revisions to the ORR-6. A related revision request will be submitted to the Office of Management and Budget along with an additional 30-day comment period prior to 8/12/2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all requests by the title of the information collection.

SUPPLEMENTARY INFORMATION: Description: ACF/ORR requests information from the ORR-6 Performance Report to determine effectiveness of state Cash and Medical Assistance (CMA) and Refugee Support Services programs. ORR uses state-by-state CMA utilization rates, derived from the ORR-6 Performance Report, to formulate program initiatives, priorities, standards, budget requests, and assistance policies. Federal regulations require state Refugee Resettlement, Replacement Designee agencies, and local governments submit statistical or programmatic information that the ORR Director determines to be required to fulfill their responsibility under the Immigration and Nationality Act (INA). ORR will submit a revision request prior to 8/12/2022 for the revisions described in 86 FR 44370 (https://www.federalregister.gov/d/2021-17246). An additional request for comments will publish in the Federal Register at the time of the revision request.

Respondents: State governments and Replacement Designees.

Annual Burden Estimates
Instrument | Total number of respondents | Total number of responses per respondent | Average burden hours per response | Total burden hours | Annual burden hours
ORR-6 Performance Report | 64 | 6 | 15 | 5,760 | 1,920

Estimated Total Annual Burden Hours: 1,920.

Authority: 8 U.S.C 1522 of the Immigration and Nationality Act (the Act) (title IV, sec. 412 of the Act), and 45 CFR 400.28(b).

Mary B. Jones,
ACF/OPRE Certifying Officer.

[FR Doc. 2022-02438 Filed 2-4-22; 8:45 am]

BILLING CODE 4184-45-P